DEPARTMENT OF LABOR

Employment and Training Administration

[TA-W-55,893]

Fiskars Brands, Inc., Soc Wausau, Wausau, WI; Notice of Termination of Investigation

Pursuant to Section 221 of the Trade Act of 1974, as amended, an investigation was initiated on November 1, 2004, in response to a petition filed by the company on behalf of workers at Fiskars Brands, SOC Wausau, Wausau, Wisconsin.

The petitioner has requested that the petition be withdrawn. Consequently, further investigation in this case would serve no purpose, and the investigation has been terminated.

Signed at Washington, DC this 18th day of November, 2004.
Linda G. Poole,
Certifying Officer, Division of Trade Adjustment Assistance.

[FR Doc. E4-3371 Filed 11-29-04; 8:45 am]

BILLING CODE 4510-30-P